DEPARTMENT OF AGRICULTURE

Food and Nutrition Service

Agency Information Collection Activities: Revision of Approved Information Collection; Comment Request—Supplemental Nutrition Assistance Program (SNAP): Federal Collection of State Plan of Operations, Operating Guidelines and Forms

AGENCY: Food and Nutrition Service (FNS), USDA.

ACTION: Notice.

SUMMARY: In accordance with the Paperwork Reduction Act of 1995, this notice invites the general public and other public agencies to comment on this proposed information collection. This is a revision of a currently approved collection for State agency Supplemental Nutrition Assistance Program (SNAP), administrative matters. FNS plans to develop and launch an electronic workflow system, SNAP Workflow Information Management (SWIM), to streamline FNS waiver processing, the current waiver request form will be transposed to an online waiver request form. The online version of the request form does not modify the currently approved burden hours in any way, but changes the method of collection for this information.

DATES: Written comments must be received on or before September 3, 2013.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility and clarity of the information to be collected; and (d) ways to minimize the burden of the collection of information on those who are to respond, including use of appropriate automated, electronic, mechanical or other technological collection techniques or other forms of information technology.

Comments may be sent to: Michael Ribar, Food and Nutrition Service, U.S. Department of Agriculture, 3101 Park Center Drive, Room 810, Alexandria, VA 22302. Comments may also be submitted via fax to the attention of Michael Ribar at 703-305-2454, or via email to michael.ribar@fns.usda.gov. Comments will also be accepted through the Federal eRulemaking Portal. Go to http://www.regulations.gov, and follow the online instructions for submitting comments electronically.

All written comments will be open for public inspection at the office of the Food and Nutrition Service during regular business hours (8:30 a.m. to 5:00 p.m. Monday through Friday) at 3101 Park Center Drive, Room 810, Alexandria, Virginia 22302.

All responses to this notice will be summarized and included in the request for Office of Management and Budget approval. All comments will be a matter of public record.

FOR FURTHER INFORMATION CONTACT: Requests for additional information or copies of this information collection should be directed to Michael Ribar at 703-305-2449.

SUPPLEMENTARY INFORMATION: Title: Operating Guidelines, Forms and Waivers.

OMB Number: 0584-0083.

Forms: FNS 366A—Program and Budget Summary Statement, FNS 366B—Program Activity Statement, SWIM SNAP Waiver Request Form and SF 425 Federal Financial Report

Expiration Date: December 31, 2013.

Type of Request: Revision of a currently approved collection.

Abstract: Section 16(a) of the Food and Nutrition Act of 2008 (the Act) authorizes 50 percent Federal reimbursement for State agency costs to administer the program. 7 CFR 272.2(a) of SNAP regulations requires that State agencies plan and budget program operations and establish objectives for the next year. The basic components of the State Plan of Operation are the Federal/State Agreement, the Budget Projection Statement and the Program Activity Statement (7 CFR 272.2(a)(2)). Under 7 CFR 272.2(c), the State agency shall submit to FNS for approval a Budget Projection Statement (which projects total Federal administrative costs for the upcoming fiscal year) and a Program Activity Statement (which provides program activity data for the preceding fiscal year). In addition, certain attachments to the plan as specified in subparagraphs (c) and (d) are to be submitted. As specified in subparagraph (f), State agencies only have to provide FNS with changes to these attachments as they occur. Consequently, these attachments are considered State plan updates. Under Section 11(o) of the Act each State agency is required to develop and submit plans for the use of automated data processing (ADP) and information retrieval systems to administer SNAP. Section 16(a) of the Act authorizes partial Federal reimbursement of State costs for State ADP systems that the Secretary determines will assist meeting the requirements of the Act, meets conditions prescribed by the Secretary, are likely to provide more efficient and effective administration of the program, and are compatible with certain other Federally-funded systems. Under 7 CFR 277.18(c)(1) of SNAP regulations, State agencies must obtain prior written approval from FNS when it plans to acquire ADP equipment with a total acquisition cost of $5 million or more in Federal and State funds. The State agency must submit an Advance Planning Document (APD) prior to acquiring planning services and an Implementation APD prior to acquiring ADP equipment or services.

Budget Projection: State agencies are required to submit to FNS for approval a Budget Projection Statement, Form FNS-366A, which includes projections of the total Federal costs for major areas of program operations. The budget projection allows FNS to estimate funding needs so we can fund the State administrative costs for the fiscal year.

Program Activity Statement: State agencies are required to submit to FNS a Program Activity Statement, Form FNS-366B, providing a summary of program activity for the State agency's operations during its preceding fiscal year. The activity report is required annually to substantiate the costs the State agency expects to incur during the next fiscal year. It provides data on the number of applications processed, number of fair hearings and fraud control activity. FNS uses the data to monitor State agency activity levels and performance.

State Plan of Operation Updates: State agencies submit the operations planning documents to the appropriate regional office for approval. This information explains how States are operating the program for monitoring purposes and allows FNS to know which States have implemented which activities and options for data and cost analysis purposes. State agencies administering SNAP may submit formal written requests, SNAP waiver requests, to obtain approval from FNS to deviate from a specific program rule or regulation. SNAP waiver requests fall into three broad categories based on statutory or regulatory authority.

Demonstration Waivers: Section 17(b) of the Act, 7 U.S.C. 2026(b), the Secretary may waive certain requirements of the Act to test program changes that might increase the efficiency of SNAP and improve the delivery of SNAP benefits to eligible households. Waivers of provisions of the Act are referred to as demonstration waivers.

Administrative Waivers: The FNS Administrator may authorize waivers to deviate from specific regulatory program requirements per 7 CFR 272.3(c) and 273.21(a). Waivers of the regulations are commonly called, “administrative waivers.” Administrative waivers are the most common waiver requested by States and approved by FNS.

Disaster Related Waivers/D-SNAP Waivers: Disaster assistance through SNAP is authorized by sections 402 and 502 of the Robert T. Stafford Disaster Relief and Emergency Assistance Act (42 U.S.C. 5121 et seq.) and the temporary emergency provisions contained in section 5 of the Act, and in 7 CFR part 280 of the SNAP regulations.

Current procedures require that in order for FNS to approve a SNAP waiver request, the State agency must submit the SNAP Waiver Request Form. With the development of SWIM, an electronic workflow system to streamline FNS waiver processing, the current waiver request form will be converted to an online waiver request form. Waivers have always been included in the State Plan of Operations.

The online version of the SNAP Waiver Request Form does not modify the currently approved burden hours in any way but changes the method of collection for this information.

Burden Estimates

The burden consists of five major components. It covers the FNS-366A, the FNS-366B, the plan of operation updates submitted as attachments to the FNS-366B, SNAP Waiver Request other Advance Planning Documents (APD) and update submissions, and quarterly financial reporting. The estimated total annual burden for this collection is 3,071 (3,014 reporting hours and 57 recordkeeping hours). The calculation of the burden for each of these components is described below:

Reporting Burden Estimates:

Affected Public: State, Local and Tribal Government Agencies.

Estimated Number of Respondents: 53.

Estimated Number of Responses per Respondent: 14.345283.

Estimated Total Annual Responses: 760.3.

Estimated Reporting Time per Response: 3.9636722 hours.

Estimated Annual Reporting Burden Hours: 3,013.58.

Reporting

FNS-366A. Fifty-three (53) State agencies (SA) submits 1 response annually for a total of 53 annual responses. The annual burden for the FNS-366A is 689 hours. Form FNS-366A provides an estimate of the funding needed to operate the program. A copy is maintained for 3 years.

The reporting burden is estimated to be 13.00 hours annually per respondent.

FNS-366B. Fifty-three (53) SA submits 1 response annually for a total of 53 annual responses. The annual reporting burden for the FNS-366B report is 17.93 hours per respondent to complete the form. The reporting burden for the FNS-366B alone is 950.29 hours.

State Plan of Operation Updates. Fifty-three (53) SA submits 1 response annually for a total of 53 annual responses. The reporting burden for submission of updates to State Plans of Operation as attachments to the FNS-366B is 6.58 hours per respondent, resulting in estimated burden hours of 348.99 (53 × 6.5847 = 348.99). The SNAP Waiver Request Form is included as part of the total reporting burden for State Plan of Operation Updates. Approximately 45 SA will submit 3.94 SNAP Waiver Requests annually for a total of 177 responses (45 × 3.94 = 177.3). The estimated average number of burden hours per submission is 1 hour resulting in estimated total burden hours of 177.3. The total reporting burden for the State Plan of Operation updates is 526.29 hours (348.99 + 177.3 = 526.29).

Other Plans and Submissions. We now estimate that up to 53 State agencies may submit on an average of four (4) APD, plan, or update submission for a total of 212 annual responses at an average estimate of 2.5 hours per respondent. The reporting burden is 530 hours. The Final Rule will reduce the frequency of responses for submission of M&O IAPDs it is now estimated that the responses is reduced from five (5) to four (4) APD, Plan or Update submittals. For this activity, the burden represents a decrease of 132.5 hours due to that reduction in frequency.

Financial Reporting. FNS requires State agencies to report expenditures for administrative costs and cash-out benefit costs using SF-425 (OMB#: 0348-0061; Expiration date: 2/28/2015) in conjunction with the FNS 366-A which requests Federal funding. FNS estimates that 53 State agencies will submit 1 report quarterly, the total annual responses is 212 and the estimated burden per response is 1.50 hours for a total reporting burden of 318 hours annually.

Affected public | Forms | Number of respondents | Frequency of response | Total annual responses | Time per response (hrs) | Annual reporting burden hours
State Agencies | FNS-366A | 53 | 1 | 53 | 13.00 | 689.00
| FNS-366B | 53 | 1 | 53 | 17.93 | 950.29
| Plan of Operation Updates (366B) | 53 | 1 | 53 | 6.58 | 348.99
| Plan of Operation Updates (Waivers) | 45 | 3.94 | 177.3 | 1.00 | 177.30
| Other APD Plan or Update | 53 | 4 | 212 | 2.50 | 530.00
| SF-425 Financial Reporting | 53 | 4 | 212 | 1.50 | 318.00
Reporting Total Burden Estimates |  | 53 |  | 760 |  | 3,013.58

Recordkeeping Burden Estimates:

Affected Public: State, Local and Tribal Government Agencies.

Estimated Number of Recordkeepers: 53.

Estimated Number of Records per Recordkeepers: 11.

Estimated Total Annual Records: 583.

Estimated Recordkeeping time per Recordkeepers: 0.0979588.

Estimated Annual Recordkeeping Burden Hours: 57.10998 or 57.11.

Recordkeeping

FNS-366A. There is a total number of 53 recordkeepers for each activity. Each State agency submits 1 response annually for a total of 53 annual responses. A copy is maintained for 3 years. It takes approximately 0.05 minutes to maintain each record. Total annual recordkeeping burden for FNS-366A is estimated at 2.65 hours annually per recordkeeper.

FNS-366B. Each State agency submits 1 response annually for a total of 53 annual responses; each record takes approximately 0.05 minutes to maintain. The annual recordkeeping burden for FNS-366B is estimated annually at 2.65 hours per recordkeeper.

State Plan of Operation Updates. Each State agency submits 1 response annually for a total of 53 annual responses; each record takes approximately 0.07 minutes to maintain. The annual recordkeeping burden for updates to State Plans of Operation as attachments to the FNS-366B is 3.71 hours per recordkeeper. There is no recordkeeping burden for the use of the SNAP Waiver Request Form.

Other Plans and Submissions. FNS estimated that up to 53 State agencies may submit an average of 4 APD, Plan, or Update submissions and approximately 212 records at an average estimate of 0.11 minutes per record keeper for an estimated total of 23.32 recordkeeping burden for this activity hours. This represents a decrease of 5.83 burden hours due to a reduction in the average number of APD submissions annually from five (5) to four (4).

Financial Reporting. Fifty-three State agencies submits one SF-425 quarterly for a total of 212 responses. We estimate that it takes approximately (0.1169 minutes) to maintain these records annually. The annual burden for this recordkeeping activity is estimated at 24.78. A copy is maintained for 3 years.

Recordkeeping burden estimates used for the SF-425 in this collection are accounted for below; however, the burden hours estimates are approved and maintained in the Uniform Grant Application for Non-Entitlement Discretionary Grants, OMB Control No.: 0584-0512; Expiration date: 1/31/2016.

Affected public | (b) Form number or activity | (c) Number recordkeepers | (d) Number records per respondent | (e) Est. total annual records (cxd) | (f) Hours per recordkeeper | (g) Total burden (exf)
State Agencies | RECORDKEEPING
| FNS-366A | 53 | 1 | 53 | 0.05 | 2.65
| FNS-366B | 53 | 1 | 53 | 0.05 | 2.65
| Plan of Operations | 53 | 1 | 53 | 0.07 | 3.71
| Other APD Plan or Update | 53 | 4 | 212 | 0.11 | 23.32
| SF-425 Financial Reporting | 53 | 4 | 212 | 0.1169 | 24.78
Recordkeeping Total Burden Estimates |  | 53 |  | 583 |  | 57.11

Summary of burden | Total respondents |  | Est. total annual responses |  | Est. total annual burden
Grand Total Reporting and recordkeeping | 53 |  | 1,343.3 |  | 3,070.69

Dated: June 25, 2013.
Jeffrey J. Tribiano,
Acting Administrator, Food and Nutrition Service.

[FR Doc. 2013-15787 Filed 7-1-13; 8:45 am]

BILLING CODE 3410-30-P